DEPARTMENT OF ENERGY

Federal Energy Regulatory Commission

[Docket No. CP96-583-001]

Kinder Morgan Texas Pipeline, Inc.; Notice of Redesignation of Proceeding

August 23, 2000.

Take notice that on August 15, 2000, Kinder Morgan Texas Pipeline, Inc. (Kinder Morgan Texas), tendered for filing a letter to inform the Commission of a name change related to Natural Gas Act (NGA) section 3 Authority and Presidential Permit issued December 17, 1997, in Docket No. CP96-583-001.¹ Specifically, Kinder Morgan Texas states that its name was changed from MidCon Texas Pipeline Operator, Inc. (MidCon Texas) effective May 1, 2000.

¹ MidCon Texas Pipeline Operator, Inc., 81 FERC ¶ 61,326 (1997).

Kinder Morgan Texas states that the name change has no effect on its obligations and responsibilities under the Presidential Permit and section 3 authority as provided by the December 17, 1997 order with respect to the construction and operation of the proposed international border crossing facilities. Accordingly, pursuant to Section 375.302(r) of the Commission's Rules and Regulations, notice is hereby given that this proceeding is being redesignated to reflect the permit holder's new name.

Linwood A. Watson, Jr.,
Acting Secretary.

[FR Doc. 00-21965 Filed 8-28-00; 8:45 am]

BILLING CODE 6717-01-M